DEPARTMENT OF JUSTICE

28 CFR Part 0

[Order No. 4212-2018]

Delegation Concerning International Prisoner Transfer Program

AGENCY: Department of Justice.

ACTION: Final rule.

SUMMARY: The Attorney General has delegated to the Assistant Attorney General for the Criminal Division certain authorities of the Attorney General concerning transfer of offenders to or from foreign countries, including the authority to find appropriate or inappropriate the transfer of offenders to or from a foreign country under certain treaties. The Assistant Attorney General for the Criminal Division is authorized to re-delegate this authority to the Deputy Assistant Attorneys General, the Director of the Office of Enforcement Operations, and the Senior Associate Director and Associate Directors of the Office of Enforcement Operations. The Department of Justice is moving the responsibility for handling international prisoner transfers from the Office of Enforcement Operations to the Office of International Affairs. Accordingly, this final rule amends the Code of Federal Regulations to authorize the Assistant Attorney General for the Criminal Division to re-delegate this authority within the Criminal Division to the Deputy Assistant Attorneys General in the Criminal Division, and to the Director, the Deputy Directors, and the Associate Director supervising the International Prisoner Transfer Unit of the Office of International Affairs.

DATES: This rule is effective July 13, 2018.

FOR FURTHER INFORMATION CONTACT: Vaughn Ary, Director, Office of International Affairs, Criminal Division, Department of Justice, Washington, DC 20005; 202-514-0000.

SUPPLEMENTARY INFORMATION: The Office of International Affairs (OIA) serves as the hub for international criminal law enforcement coordination for the Department of Justice and carries out a wide range of responsibilities. OIA works closely with its foreign and domestic stakeholders to ensure that criminals both at home and abroad are extradited to face justice. OIA also handles thousands of requests for mutual legal assistance, drafts and comments on legislation and policy, and participates in litigation related to international cooperation issues. At its core, international prisoner transfer is an area of international legal cooperation. Having concluded that the responsibility for handling international prisoner transfers more closely relates to the mission of OIA, the Department of Justice is moving the International Prisoner Transfer Unit from the Office of Enforcement Operations to OIA. To ensure OIA has the necessary authorities to find appropriate or inappropriate the transfer of offenders to or from a foreign country under certain treaties, the Department of Justice is modifying its delegation of authority in 28 CFR 0.64-2. This modification will authorize the Assistant Attorney General for the Criminal Division to re-delegate this authority to the Deputy Assistant Attorneys General in the Criminal Division and to the Director, the Deputy Directors, and the Associate Director supervising the International Prisoner Transfer Unit of the Office of International Affairs. This action will promote efficiency, better accomplish important law enforcement objectives, and enhance international relationships and cooperation.

Administrative Procedure Act—5 U.S.C. 553

This rule is a rule of agency organization and relates to a matter relating to agency management and is therefore exempt from the requirements of prior notice and comment and a 30-day delay in the effective date. See 5 U.S.C. 553(a)(2), (b)(3)(A).

Regulatory Flexibility Act

A Regulatory Flexibility Analysis is not required to be prepared for this final rule because the Department was not required to publish a general notice of proposed rulemaking for this matter. 5 U.S.C. 604(a).

Executive Order 12866—Regulatory Planning and Review

This action has been drafted and reviewed in accordance with Executive Order 12866, Regulatory Planning and Review, section 1(b), The Principles of Regulation. This rule is limited to agency organization, management, and personnel as described in section 3(d)(3) of Executive Order 12866 and, therefore, is not a “regulation” or “rule” as defined by the order. Accordingly, this action has not been reviewed by the Office of Management and Budget.

Executive Order 13132—Federalism

This rule will not have substantial direct effects on the States, on the relationship between the national government and the States, or on distribution of power and responsibilities among the various levels of government. Therefore, in accordance with Executive Order 13132, it is determined that this rule does not have sufficient federalism implications to warrant the preparation of a Federalism Assessment.

Executive Order 12988—Civil Justice Reform

This rule was drafted in accordance with the applicable standards set forth in sections 3(a) and 3(b)(2) of Executive Order 12988.

Unfunded Mandates Reform Act of 1995

This rule will not result in the expenditure by State, local, and tribal governments, in the aggregate, or by the private sector, of $100,000,000 or more in any one year, and it will not significantly or uniquely affect small governments. Therefore, no actions were deemed necessary under the provisions of the Unfunded Mandates Reform Act of 1995.

Congressional Review Act

This action pertains to agency management, personnel, and organizations and does not substantially affect the rights or obligations of non-agency parties and, accordingly, is not a “rule” as that term is used by the Congressional Review Act, 5 U.S.C. 804(3)(B). Therefore, the reporting requirement of 5 U.S.C. 801 does not apply.

List of Subjects in 28 CFR Part 0

Authority delegations (Government agencies), Crime, Government employees, Law enforcement, Organization and functions (Government agencies), Prisoners.

For the reasons stated in the preamble, title 28, part 0, of the Code of Federal Regulations is amended as follows:

PART 0—ORGANIZATION OF THE DEPARTMENT OF JUSTICE

1. The authority citation for part 0 continues to read as follows:

Authority: 5 U.S.C. 301; 28 U.S.C. 509, 510, 515-519.

2. In § 0.64-2, revise the final sentence to read as follows:

§ 0.64-2. Delegation respecting transfer of offenders to and from foreign countries.

* * * The Assistant Attorney General, Criminal Division, is authorized to re-delegate this authority within the Criminal Division to the Deputy Assistant Attorneys General in the Criminal Division and to the Director, the Deputy Directors, and the Associate Director supervising the International Prisoner Transfer Unit of the Office of International Affairs.

Dated: June 29, 2018.
Jefferson B. Sessions III,
Attorney General.

[FR Doc. 2018-15047 Filed 7-12-18; 8:45 am]

BILLING CODE 4410-14-P